DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the invstigations may request a public hearing, provided such request is filed in writing with the Director, Division of Trade Adjustment Assistance, at the address show below, not later than February 25, 2000.

Interested persons are invited to submit written comments regarding the subject matter of the investigations to the Director, Division of Trade Adjustment Assistance, at the address shown below, not later than February 25, 2000.

The petitions filed in this case are available for inspection at the Office of the Director, Division of Trade Adjustment Assistance, Employment and Training Administration, U.S. Department of Labor, 200 Constitution Avenue, NW, Washington, DC 20210.

Signed at Washington, DC, this 31st day of January, 2000.
Grant D. Beale,
Program Manager, Division of Trade Adjustment Assistance.

Petitions Instituted On 01/31/200
TA-W | Subject firm (petitioners) | Location | Date of petition | Product(s)
37,282 | Hewlett Packard Co. (Wkrs) | Vancouver, WA | 01/17/2000 | Printers for Computers.
37,283 | Nordic Group LLC (Wkrs) | Hubbard, OR | 01/12/2000 | Outerwear.
37,284 | Fruit of the Loom (Wkrs) | St. Martinville, LA | 12/15/1999 | Briefs and T-Shirts.
37,285 | R.L.F. Neckwear, Inc (UNITE) | Belleville, NJ | 01/11/2000 | Men's Bow Ties.
37,286 | Northern Automotive (Wkrs) | West Salem, WI | 01/15/2000 | Design Automotive Interior Parts.
37,287 | American Timber Co. (Co.) | Olney, MT | 01/14/2000 | Stud Lumber and By-Products.
37,288 | Custom Packaging Systems (Co.) | Manistee, MI | 01/11/2000 | Flexible Intermediate Bulk Containers.
37,289 | M. Glosser & Sons Scrap (USWA) | Johnstown, PA | 01/14/2000 | Various Steel Products.
37,290 | Ochoco Lumber Co. (Wkrs) | John Day, OR | 01/10/2000 | Lumber.
37,291 | IMC Kalium (Wkrs) | Carlsbad, NM | 01/07/2000 | Langbeintie, Muriate Sulphate & Potash.
37,292 | Deepwater Corrosion (Wkrs) | Houston, TX | 01/13/2000 | Corrosion Services.
37,293 | Intermet Ironton Iron (GMP) | Ironton, OH | 01/19/2000 | Automobile Bedplates and Crankshafts.
37,294 | Ball Foster (Wkrs) | Marion, IN | 01/13/2000 | Glass Beverage Containers.
37,295 | Hylton House (Wkrs) | Kenbridge, VA | 12/01/1999 | Upholstered Furniture.
37,296 | BICC General (Wkrs) | Williamstown, MA | 01/10/2000 | Cordsets.
37,297 | Smiley Container (PACE) | Poplar Bluff, MO | 01/19/2000 | Candy Boxes.
37,298 | Apparel Specialist (Co.) | Green Bay, WI | 01/14/2000 | Embroidered and Screened Cloth.
37,299 | Standard Candy Co., Inc (Co.) | Nashville, TN | 01/19/2000 | King Leo Stick Candy.
37,300 | Award Windows (Wkrs) | Ferndale, WA | 01/13/2000 | Commercial Windows.

[FR Doc. 00-3505 Filed 2-14-00; 8:45 am]

BILLING CODE 4510-30-M